DEPARTMENT OF COMMERCE

Foreign-Trade Zones Board

[Docket 8-2000]

Proposed Foreign-Trade Zone—Waco, TX; Amendment of Application

Notice is hereby given that the application of the City of Waco, Texas, to establish a general-purpose foreign-trade zone at sites in Waco, Texas (Doc. 8-2000, 65 F.R.13938, 3/15/00), has been amended to add an additional parcel (103 acres) to Proposed Site 2 within the 3,000-acre Texas Central Industrial Park in Waco. The site is adjacent to the Dallas/Fort Worth Customs Port of entry.

As amended, Proposed Site 2 will consist of 242 acres within the Texas Central Industrial Park. The application otherwise remains unchanged.

The comment period is reopened until September 25, 2000. Submissions (original and 3 copies) shall be addressed to the Board's Executive Secretary at the address below.

A copy of the application and the amendment and accompanying exhibits are available for public inspection at the following locations:

Greater Waco Chamber of Commerce, 101 South University Parks Drive, Waco, TX 76701

Office of the Executive Secretary, Foreign-Trade Zones Board, Room 4008, U.S. Department of Commerce, 14th & Pennsylvania Avenue, NW., Washington, DC 20230

Dated: August 16, 2000.
Dennis Puccinelli,
Executive Secretary.

[FR Doc. 00-21809 Filed 8-24-00; 8:45 am]

BILLING CODE 3510-DS-P